DEPARTMENT OF COMMERCE

National Oceanic and Atmospheric Administration

[I.D. 092801B]

Proposed Information Collection; Comment Request; Survey to Measure Effectiveness of Community-oriented Policing for ESA Enforcement

AGENCY: National Oceanic and Atmospheric Administration, Department of Commerce.

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before December 3, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Dayna Matthews, National Marine Fisheries Service, 510 Desmond Drive S.E. Suite 103, Lacey, WA 98503.

SUPPLEMENTARY INFORMATION:

I. Abstract

Community-oriented policing promotes the use of various resources and policing-community partnerships for developing strategies to identify, analyze, and address community law enforcement problems at their source. Recognizing the significant role non-traditional enforcement efforts play in Endangered Species Act (ESA) enforcement in the Northwest, the National Marine Fisheries Service proposes to conduct a survey to evaluate the success of its Office for Law Enforcement’s community-oriented policing program for ESA enforcement for anadromous species in the Pacific Northwest.

II. Method of Collection

Information will be gathered through both voluntary self-administered surveys and in-depth interviews.

III. Data

OMB Number: 0648-0435.

Form Number: None.

Type of Review: Regular submission.

Affected Public: Individuals or households; Federal, state and local Government.

Estimated Number of Respondents: 4,300 (4000 surveys, 300 interviews).

Estimated Time Per Response: 20 minutes per survey, 80 minutes per interview.

Estimated Total Annual Burden Hours: 1,733 hours.

Estimated Total Annual Cost to Public: $ 0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 26, 2001.
Gwellnar Banks,
Management Analyst, Office of the Chief Information Officer.

[FR Doc. 01-24760 Filed 10-2-01; 8:45 am]

BILLING CODE 3510-22-S